ENVIRONMENTAL PROTECTION AGENCY

[FRL-9710-01-OMS]

Good Neighbor Environmental Board

AGENCY: Environmental Protection Agency (EPA).

ACTION: Notice of meeting.

SUMMARY: Under the Federal Advisory Committee Act, the Environmental Protection Agency (EPA) gives notice of a public meeting of the Good Neighbor Environmental Board (GNEB or Board). The GNEB is an independent federal advisory committee. Its mission is to advise the President and Congress of the United States on good neighbor practices along the U.S. border with Mexico. Its recommendations are focused on environmental infrastructure needs within the U.S. states contiguous to Mexico. The Board is a federal advisory committee chartered under the Federal Advisory Committee Act.

Purpose of Meeting: To discuss and develop the framework for the Board's annual letter to the President, which will focus on water and wastewater infrastructure issues and challenges along the U.S.-Mexico border.

DATES: May 5, 2022, from 2:00 p.m.-6:00 p.m. (EST). A copy of the agenda will be posted at www.epa.gov/faca/gneb.

ADDRESSES: The meeting will be conducted virtually and is open to the public with limited access available on a first-come, first-served basis. Members of the public wishing to participate in the teleconference, should contact Eugene Green at green.eugene@epa.gov by April 28th.

SUPPLEMENTARY INFORMATION: Requests to make oral comments or submit written public comments to the Board, should also be directed to Eugene Green at least five business days prior to the teleconference.

Meeting Access: Information regarding access and/or accommodations for individuals with disabilities should be directed to Eugene Green at the email address or phone number listed above. To ensure adequate time for processing, please make requests for accommodations at least 10 days prior to the teleconference meeting. For additional information regarding the teleconference, please contact Eugene Green at (202) 564-2432 or via email at green.eugene@epa.gov.

Dated: April 14, 2022.
Eugene Green,
Program Analyst.

[FR Doc. 2022-08439 Filed 4-19-22; 8:45 am]

BILLING CODE 6560-50-P